DEPARTMENT OF ENERGY

Federal Energy Regulatory Commission

[Docket No. ER03-1339-000]

Pacific Gas and Electric Company; Notice of Filing

October 3, 2003.

Take notice that on September 15, 2003, Pacific Gas and Electric Company (PG&E) tendered for filing a Wholesale Distribution Tariff (WDT) Service Agreement and an Interconnection Agreement (IA) between PG&E and McAllister Ranch Irrigation District (MRID).

PG&E states that the Service Agreement is submitted pursuant to the PG&E WDT and permits PG&E to recover the ongoing costs for service required over PG&E's distribution facilities. PG&E states that the IA provides the terms and conditions for the continued interconnection of the Electric System of MRID and PG&E.

PG&E states that copies of this filing have been served upon MRID, the California Independent System Operator Corporation and the California Public Utilities Commission.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: October 14, 2003.

Linda Mitry,
Acting Secretary.

[FR Doc. E3-00277 Filed 11-14-03; 8:45 am]

BILLING CODE 6717-01-P